DEPARTMENT OF TRANSPORTATION

Federal Aviation Administration

[FAA-2024-1807]

Agency Information Collection Activities: Requests for Comments; Clearance of a Renewed Approval of Information Collection: Commercial Space Transportation Licensing Regulations

AGENCY: Federal Aviation Administration (FAA), DOT.

ACTION: Notice and request for comments.

SUMMARY: In accordance with the Paperwork Reduction Act of 1995, FAA invites public comments about our intention to request the Office of Management and Budget (OMB) approval to renew an information collection. The information will determine if applicant proposals for conducting commercial space launches can be accomplished according to regulations issued by the Office of the Associate Administrator for Commercial Space Transportation. The Federal Register notice with a 60-day comment period soliciting comments on the following collection of information was published on June 24, 2024. The Commercial Space Launch Act of 1984, as recodified, requires certain data be provided in applying for a license to conduct commercial space launch activities. These data are required to demonstrate to the Federal Aviation Administration (FAA), Associate Administrator for Commercial Space Transportation (AST), that a license applicant's proposed activities meet applicable public safety, national security, and foreign policy interests of the United States.

DATES: Written comments should be submitted by March 28, 2025.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Charles Huet by email at: Charles.huet@faa.gov; phone: 202-267-7427.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0608.

Title: Commercial Space Transportation Licensing Regulations.

Form Numbers: FAA Form 8800-1.

Type of Review: Renewal of an information collection.

Background: The Federal Register notice with a 60-day comment period soliciting comments on the following collection of information was published on June 24, 2024 (89 FR 52532). (The Commercial Space Launch Act of 1984, 49 U.S.C. App. 2601-2623, as recodified at 49 U.S.C. subtitle IX, Ch. 701—Commercial Space Launch Activities, 49 U.S.C. 70101-70119 (1994), requires certain data be provided in applying for a license to conduct commercial space launch activities. These data are required to demonstrate to the Federal Aviation Administration (FAA), Associate Administrator for Commercial Space Transportation (AST), that a license applicant's proposed activities meet applicable public safety, national security, and foreign policy interests of the United States.

Respondents: Approximately 17 space launch applicants.

Frequency: Information is collected on occasion.

Estimated Average Burden per Response: 163 hours.

Estimated Total Annual Burden: 2,779 hours.

Issued in Washington, DC.
James A. Hatt,
Space Policy Division Manager, Commercial Space Transportation, Federal Aviation Administration.

[FR Doc. 2025-02978 Filed 2-25-25; 8:45 am]

BILLING CODE 4910-13-P